DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2015 Management and Organizational Practices Survey.

OMB Control Number: 0607-0963.

Form Number(s): MP-10002.

Type of Request: Reinstatement, with change, of an expired collection.

Number of Respondents: 50,000.

Average Hours per Response: 45 minutes.

Burden Hours: 37,500.

Needs and Uses: The Census Bureau is requesting clearance for the 2015 Management and Organizational Practices Survey (MOPS). This survey will utilize the Annual Survey of Manufactures (ASM) survey panel collecting information on management and organizational practices at the establishment level. Data obtained from the survey will allow us to estimate a firm's stock of management and organizational assets, specifically the use of establishment performance data, such as production targets in decision-making and the prevalence of decentralized decision rights. The results will provide information on investments in management and organizational practices thus providing a better understanding of the benefits from these investments when measured in terms of firm productivity or firm market value.

The MOPS was first collected in 2010, and no subsequent MOPS have been collected. The 2010 MOPS results had the significant benefit of being linked to the Census Bureau's data sets on plant level outcomes. Since every establishment in the MOPS sample is also in the ASM, the results of MOPS 2010 were linked with certainty to annual performance data at the plant level, including outcomes on sales, shipments, payroll, employment, inventories, capital expenditure, and more for the period 2009-2013. Furthermore, the existence of the Longitudinal Business Dataset (LBD) enables future longitudinal research on establishment-level management practices and allows researchers to link MOPS data to the Manufacturing component of the quinquennial Economic Census (sent to all manufacturers with paid employees for years ending in `2' or `7').

Understanding the determinants of productivity growth is essential to understanding the dynamics of the U.S. economy. The MOPS provides information on whether the large and persistent differences in productivity across establishments (even within the same industry) are partly driven by differences in management and organizational practices. In addition to increasing our understanding of the dynamics of the economy, MOPS data provides policymakers with some guidance while they attempt to raise aggregate productivity levels. Policymakers, such as the Federal Reserve Board and the Department of Commerce can use MOPS data to gain a greater understanding of the current state and evolution of management and organizational practices, which can in turn aid the policymakers in forecasting future productivity growth.

The MOPS provides information on differences in manufacturing management and organizational practices by region, industry, and firm size. Since the MOPS data are also connected with annual performance data, the MOPS results directly aid policy discussion about the potential impact of programs. As a result, the MOPS data are also particularly important for understanding what policymakers can do to assist U.S. manufacturing companies as they react to a changing economy.

Further, the 2015 MOPS include two new modules that were not included in the 2010 MOPS. Reflecting the increasing use of data to make production decisions, the MOPS expanded the information collected on this subject (relative to 2010) into a module on “Data and Decisions Making”. Understanding the characteristics of businesses that rely upon data in making decisions helps businesses and policymakers understand the decision-making process of businesses. In addition, if the Census Bureau better understands how businesses retain and analyze their own data, the Census Bureau can better plan future collections and reduce respondent burden.

Policymakers and businesses are also increasingly aware of the impact of uncertainty on decisions such as hiring and investing in capital. The 2015 MOPS also has a new module on “Uncertainty” that will help researchers better understand the effects of uncertainty on management decisions.

A notice published in the Federal Register on April 21, 2015, announcing our intention to submit this request did not mention the inclusion of these two new modules. The decision to include the modules was made subsequent to the publication of that notice.

From the 2010 MOPS, the Census Bureau created a press release, “Census Bureau Offers First-Ever Large Scale Look at American Management Practices”. Pending an Internal Revenue Service review of the file, the Census Bureau intends to release a Public Use Microdata File from the 2010 collected responses.

Affected Public: Business or other for-profit.

Frequency: One time.

Respondent's Obligation: Mandatory.

Legal Authority: The 2015 MOPS will be conducted under authority of title 13, United States Code, sections 131, and 182. The collection is mandatory under the provisions of title 13, United Sates Code, sections 224, and 225.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
PRA Lead,Office of the Chief Information Officer.

[FR Doc. 2015-24233 Filed 9-23-15; 8:45 am]

BILLING CODE 3510-07-P